DEPARTMENT OF TRANSPORTATION

Federal Aviation Administration

14 CFR Part 39

[Docket No. FAA-2010-0779; Directorate Identifier 2009-SW-84-AD; Amendment 39-16467; AD 2010-21-07]

RIN 2120-AA64

Airworthiness Directives; Eurocopter France (ECF) Model AS350B3 and EC130 B4 Helicopters

AGENCY: Federal Aviation Administration (FAA), DOT.

ACTION: Final rule.

SUMMARY: This amendment adopts a new airworthiness directive (AD) for the Eurocopter France Model AS350B3 and EC130 B4 helicopters. This amendment is prompted by a mandatory continuing airworthiness information (MCAI) AD issued by the European Aviation Safety Agency (EASA), which is the Technical Agent for the Member States of the European Community. The MCAI AD states that a dormant failure of one of the two contactors 53Ka or 53Kb can occur following certain modifications. Failure of a contactor can prevent switching from “IDLE” mode to “FLIGHT” mode during autorotation training making it impossible to execute a power recovery and compelling the pilot to continue the autorotation to the ground. This condition, if not corrected, can lead to an unintended touchdown to the ground during a practice autorotation at a flight-idle power setting, damage to the helicopter, and injury to the occupants.

DATES: Effective November 18, 2010.

The incorporation by reference of certain publications listed in the regulations is approved by the Director of the Federal Register as of November 18, 2010.

ADDRESSES: You may get the service information identified in this AD from American Eurocopter Corporation, 2701 Forum Drive, Grand Prairie, Texas 75053-4005, telephone (800) 232-0323, fax (972) 641-3710, or at http://www.eurocopter.com.

Examining the Docket: You may examine the docket that contains this AD, any comments, and other information on the Internet at http://www.regulations.gov or at the Docket Operations office, West Building Ground Floor, Room W12-140, 1200 New Jersey Avenue, SE., Washington, DC.

FOR FURTHER INFORMATION CONTACT: DOT/FAA Southwest Region, Rotorcraft Directorate, Safety Management Group, ASW-112, Ed Cuevas, Aviation Safety Engineer, 2601 Meacham Blvd., Fort Worth, Texas 76137; telephone: 817-222-5135; fax: 817-222-5961.

SUPPLEMENTARY INFORMATION:

Discussion

We issued a Notice of Proposed Rulemaking (NPRM) to amend 14 CFR part 39 to include an AD that would apply to ECF Model AS350B3 and EC130 B4 helicopters on August 3, 2010. That NPRM was published in the Federal Register on August 11, 2010 (75 FR 48615). That NPRM proposed to require inspecting the pilot's and co-pilot's throttle twist for proper operation of the contactors, which provide for changes between the “IDLE” and “FLIGHT” positions of the throttle twist grip control.

The European Aviation Safety Agency (EASA), which is the Technical Agent for the Member States of the European Community, has issued EASA AD No. 2009-0256, dated December 2, 2009, to correct an unsafe condition for the ECF Model AS350B3 and EC130 B4 helicopters. EASA advises that analysis shows a dormant failure of one of the two contactors 53Ka or 53Kb can occur following the modification of the Model AS350B3 by MOD 073254 and modification of the Model EC130 B4 by MOD 073773. Failure of a contactor can prevent switching from “IDLE” mode to “FLIGHT” mode during autorotation training making it impossible to execute a power recovery and compelling the pilot to continue the autorotation to the ground. This condition, if not corrected, can lead to an unintended touchdown to the ground during a practice autorotation at a flight-idle power setting, damage to the helicopter, and injury to the occupants.

Related Service Information

ECF has issued Alert Service Bulletin (ASB) No. 05.00.61 for the Model AS350B3 helicopters and ASB No. 05A009 for the EC130 B4 helicopters. Both ASBs are dated November 16, 2009. Both ASBs specify a functional check of the two contactors 53Ka and 53Kb, which are used to switch from “IDLE” to “FLIGHT” mode or vice versa. The ASBs also specify repetitive checking of the contactors for correct opening and closing to detect this dormant failure. ECF states that it will be preparing a modification, which will cancel the ASBs, in the very near future. Once the manufacturer develops corrective terminating actions, we anticipate further rulemaking.

FAA's Evaluation and Unsafe Condition Determination

These products have been approved by the aviation authority of France and are approved for operation in the United States. Pursuant to our bilateral agreement with France, EASA, their technical representative, has notified us of the unsafe condition described in the EASA AD. We are issuing this AD because we evaluated all information provided by EASA and determined the unsafe condition exists and is likely to exist or develop on other products of these same type designs.

Differences Between this AD and the MCAI AD

We refer to flying hours as hours time-in-service (TIS). Also, we refer to maintenance actions as inspections rather than checks.

Comments

By publishing the NPRM, we gave the public an opportunity to participate in developing this AD. However, we received no comments on the NPRM or on our determination of the cost to the public. Therefore, based on our review and evaluation of the available data, we have determined that air safety and the public interest require adopting the AD as proposed.

Costs of Compliance

We estimate that this AD will affect about 116 of the Model EC130 B4 helicopters and 231 of the Model AS350B3 helicopters for a total of 347 helicopters of U.S. registry. We also estimate that it will take about 0.5 work-hour per helicopter to inspect and about 0.5 work-hour per helicopter to replace a micro-switch. The average labor rate is $85 per work-hour. Required parts cost about $538 for the T3933-3 microswitch. Based on these figures, we estimate that the cost of this AD on U.S. operators is $21,714, assuming 4 microswitches are replaced on the Model EC130 B4 helicopters and 8 microswitches are replaced on the Model AS350B3 helicopters.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act. We prepared an economic evaluation of the estimated costs to comply with this AD. See the AD docket to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2010-21-07 Eurocopter France: Amendment 39-16467; Docket No. FAA-2010-0779; Directorate Identifier 2009-SW-84-AD.

Effective Date

(a) This airworthiness directive (AD) becomes effective on November 18, 2010.

Other Affected ADs

(b) None.

Applicability

(c) This AD applies to Model AS350B3 and EC130 B4 helicopters, certificated in any category, with the ARRIEL 2B1 engine with the two-channel Full Authority Digital Engine Control (FADEC), and with new twist grip modification (MOD) 073254 for the Model AS350B3 helicopter or MOD 073773 for the Model EC130 B4 helicopter, installed.

Reason

(d) The mandatory continuing airworthiness information (MCAI) AD states that analysis shows a “dormant failure” of one of the two contactors, 53Ka or 53Kb, can occur following the introduction of MOD 073254 or MOD 073773. Failure of a contactor can prevent switching from “IDLE” mode to “FLIGHT” mode during autorotation training making it impossible to recover from the practice autorotation and compelling the pilot to continue the autorotation to the ground. This condition, if not corrected, can lead to an unintended touchdown to the ground at a flight-idle power setting during a practice autorotation, damage to the helicopter, and injury to the occupants.

Actions and Compliance

(e) Before the next practice autorotation or on or before 100 hours time-in-service (TIS), whichever occurs first, unless accomplished previously, and thereafter at intervals not to exceed 600 hours TIS:

(1) Inspect for the proper operation of contactors 53Ka and 53Kb by rotating the pilot and co-pilot throttle twist grip controls between the “IDLE” and “FLIGHT” position in accordance with the Accomplishment Instructions, paragraph 2.B.2, of Eurocopter Alert Service Bulletin (ASB) No. 05.00.61, dated November 16, 2009, for the Model AS350B3 helicopters or ASB No. 05A009, dated November 16, 2009, for the Model EC130 B4 helicopters, as appropriate for your model helicopter.

(2) Test the pilot and co-pilot throttle twist grip controls for proper functioning. If the throttle twist grip controls are not functioning properly, repair the controls.

Differences Between This AD and the MCAI AD

(f) We refer to flight hours as hours TIS. Also, we refer to maintenance actions as inspections rather than checks. Finally,

Other Information

(g) Alternative Methods of Compliance (AMOCs): The Manager, Safety Management Group, ATTN: DOT/FAA Southwest Region, Ed Cuevas, ASW-112, Aviation Safety Engineer, Rotorcraft Directorate, Safety Management Group, 2601 Meacham Blvd., Fort Worth, Texas 76137, telephone (817) 222-5355, fax (817) 222-5961, has the authority to approve AMOCs for this AD, if requested, using the procedures found in 14 CFR 39.19.

Related Information

(h) MCAI AD No. 2009-0256, dated December 2, 2009, contains related information.

Joint Aircraft System/Component (JASC) Code

(i) The JASC Code is 7697: Engine Control System Wiring.

Material Incorporated by Reference

(j) You must use Eurocopter Alert Service Bulletin ASB No. 05.00.61 or 05A009, both dated November 16, 2009, to do the actions required by this AD, unless the AD specifies otherwise.

(1) The Director of the Federal Register approved the incorporation by reference of this service information under 5 U.S.C. 552(a) and 1 CFR part 51.

(2) For service information identified in this AD, contact American Eurocopter Corporation, 2701 Forum Drive, Grand Prairie, Texas 75053-4005, telephone (800) 232-0323, fax (972) 641-3710, or at http://www.eurocopter.com.

(3) You may review copies at the FAA, Office of the Regional Counsel, Southwest Region, 2601 Meacham Blvd., Room 663, Fort Worth, Texas or at the National Archives and Records Administration (NARA). For information on the availability of this material at NARA, call (202) 741-6030, or go to: http://www.archives.gov/federal-register/cfr/ibr-locations.html.

Issued in Fort Worth, Texas, on September 29, 2010.
Kim Smith,
Manager, Rotorcraft Directorate, Aircraft Certification Service

[FR Doc. 2010-25270 Filed 10-13-10; 8:45 am]

BILLING CODE 4910-13-P